DEPARTMENT OF VETERANS AFFAIRS

Veterans' Rural Health Advisory Committee; Notice of Meeting

The Department of Veterans Affairs (VA) gives notice under Public Law 92-463 (Federal Advisory Committee Act) that the Veterans' Rural Health Advisory Committee will conduct a teleconference meeting on Thursday, April 21, 2011, from 2 p.m. to 4 p.m., in Room GL20, 1722 I Street, NW., Washington, DC. The toll-free number for the meeting is 1-800-767-1750, and the access code is 57165#. The meeting is open to the public.

The purpose of the Committee is to advise the Secretary of Veterans Affairs on health care issues affecting enrolled Veterans residing in rural areas. The Committee examines programs and policies that impact the provision of VA health care to enrolled Veterans residing in rural areas and discusses ways to improve and enhance VA services for these Veterans.

The Committee will discuss the Committee's Annual Report to the VA Secretary, VA Veteran Centers services, rural women Veteran health care, and the meeting agenda and planning for the Committee's upcoming June 2011 meeting in Helena, Montana.

A 15-minute period will be reserved at 3:40 p.m. for public comments. Individuals who wish to address the Committee are invited to submit a 1-2 page summary of their comments for inclusion in the official meeting record. Members of the public may also submit written statements for the Committee's review to Christina White, Designated Federal Officer, Department of Veterans Affairs (10A5A), 810 Vermont Avenue, NW., Washington, DC 20420 or e-mail at rural.health.inquiry@va.gov. Any member of the public wishing to attend or seeking additional information should contact Ms. White at (202) 461-7100.

Dated: April 11, 2011.
By direction of the Secretary.
William F. Russo,
Director of Regulations Management, Office of General Counsel.

[FR Doc. 2011-9087 Filed 4-13-11; 8:45 am]

BILLING CODE P